DEPARTMENT OF AGRICULTURE

Forest Service

Directive Publication Notice

AGENCY: Forest Service, Agriculture (USDA).

ACTION: Notice.

SUMMARY: The Forest Service (Forest Service or Agency), U.S. Department of Agriculture, provides direction to employees through issuances in its Directive System, comprised of the Forest Service Manual and Forest Service Handbooks. The Agency must provide public notice of and opportunity to comment on directives that formulate standards, criteria, or guidelines applicable to Forest Service programs. Once per quarter, the Agency provides advance notice of proposed and interim directives that will be made available for public comment during the next three months; proposed and interim directives that were previously published for public comment but not yet finalized and issued; and notice of final directives issued in the last three months.

DATES: This notice identifies proposed and interim directives that have been published for public comment between January 1, 2025, and March 31, 2025; proposed and interim directives that were previously published for public comment but not yet finalized and issued; and final directives that have been issued since October 1, 2024.

ADDRESSES: Questions or comments may be submitted by email to the contact listed below.

FOR FURTHER INFORMATION CONTACT: JoLynn Anderson, (971) 313-1718 or jolynn.anderson@usda.gov. Individuals who use telecommunications devices for the hearing impaired may call 711 to reach the Telecommunications Relay Service, 24 hours a day, every day of the year, including holidays. You may register to receive email alerts regarding Forest Service directives at https://www.fs.usda.gov/about-agency/regulations-policies/national-directives.

SUPPLEMENTARY INFORMATION:

Proposed and Interim Directives

Consistent with 16 U.S.C. 1612(a) and 36 CFR part 216, the Forest Service publishes notice of the opportunity for public comment on Agency Directives that formulate standards, criteria, and guidelines applicable to Forest Service programs. Agency procedures for providing public notice and opportunity to comment are specified in Forest Service Handbook (FSH) 1109.12, Chapter 30, Providing Public Notice and Opportunity to Comment on Directives.

No Directives were published for comment between January 1, 2025, to March 31, 2025. Additionally, there are no proposed or final Directives scheduled to be published for comment in Fiscal Year 2025 Quarter 3.

The following Directives have been published in previous quarters:

Final Directives That Have Been Issued in Fiscal Year 2025 Quarter 1

1. FSM 2040 National Forest System Monitoring.

Final Directives That Have Been Issued in Fiscal Year 2025 Quarter 2

1. FSH 2209.16-chapter 10 Allotment Management Handbook;

2. FSM 3800 Landscape Scale Restoration.

Stephen Morse,
Program Analyst, Policy Office, National Forest System.

[FR Doc. 2025-06098 Filed 4-8-25; 8:45 am]

BILLING CODE 3411-15-P